DEPARTMENT OF ENERGY

Federal Energy Regulatory Commission

[Docket No. RP06-177-000]

Iroquois Gas Transmission System, L.P.; Notice of Proposed Change in FERC Gas Tariff

January 25, 2006.

Take notice that on January 20, 2006, Iroquois Gas Transmission System, L.P. (Iroquois) tendered for filing as part of its FERC Gas Tariff, First Revised Volume No. 1, the following revised sheet to be effective on March 21, 2006:

Fifth Revised Sheet No. 1

Original Sheet No. 5A

Third Revised Sheet No. 33

First Revised Sheet No. 36A

Second Revised Sheet No. 39

Original Sheet No. 39A

Original Sheet No. 39B

Original Sheet No. 39C

Original Sheet No. 39D

Original Sheet No. 39E

Original Sheet No. 39F

Original Sheet No. 39G

Original Sheet No. 39H

Original Sheet No. 39I

Original Sheet No. 39J

Second Revised Sheet No. 40

Second Revised Sheet No. 42

Fifth Revised Sheet No. 45

First Revised Sheet No. 49A

Fifth Revised Sheet No. 50A

Fifth Revised Sheet No. 50B

Eighth Revised Sheet No. 51

Fourth Revised Sheet No. 52

Second Revised Sheet No. 53

Fourth Revised Sheet No. 54

Seventh Revised Sheet No. 55

Second Revised Sheet No. 58A

Ninth Revised Sheet No. 59

Third Revised Sheet No. 59A

Second Revised Sheet No. 60E

Third Revised Sheet No. 65

First Revised Sheet No. 65A

Third Revised Sheet No. 68

Fourth Revised Sheet No. 75

First Revised Sheet No. 75A

Second Revised Sheet No. 79A

Second Revised Sheet No. 80

Ninth Revised Sheet No. 118

Third Revised Sheet No. 121

Fourth Revised Sheet No. 123

Third Revised Sheet No. 178

Original Sheet No. 178A

Original Sheet No. 178B

Original Sheet No. 178C

Original Sheet No. 178D

Original Sheet No. 178E

Original Sheet No. 178F

Original Sheet No. 178G

Eighth Revised Sheet No. 181

Seventh Revised Sheet No. 184

Fifth Revised Sheet No. 190

Fourth Revised Sheet No. 192

Iroquois states that copies of its filing were served on all jurisdictional customers and interested state regulatory agencies and all parties to the proceeding.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-1256 Filed 1-31-06; 8:45 am]

BILLING CODE 6717-01-P